DEPARTMENT OF JUSTICE

Notice of Lodging of Proposed Consent Decree Under the Clean Air Act

On May 10, 2019, the Department of Justice lodged a proposed Consent Decree with the United States District Court for the District of New Jersey in the lawsuit entitled United States v. Infineum USA LP, Civil Action No. 2:19-cv-12441. In the Complaint, the United States, on behalf of the U.S. Environmental Protection Agency, alleges that Infineum USA LP violated the Clean Air Act, 42 U.S.C. 7412 and 7414, and Title V requirements under the Clean Air Act, 42 U.S.C. 7661a(a) and 7661c(a) for failing to operate its steam-assisted flare (“Flare”) that is used to control emissions at Infineum's facility, in compliance with limits and conditions in its Title V operating permit, and the Complaint further alleges that Infineum failed to operate the Flare in a manner consistent with good air pollution control practices for minimizing emissions. The Complaint alleges these violations occurred because Infineum injected disproportionate steam into the Flare at rates that caused excess emissions of hazardous air pollutants. The proposed Consent Decree requires Infineum to conduct injunctive relief, particularly incorporating automated steam injection and automated gas monitoring for any gas sent to the Flare for combustion. The Consent Decree also requires Infineum to pay a civil penalty of $187,500.

The publication of this notice opens a period for public comment on the proposed Consent Decree. Comments should be addressed to the Assistant Attorney General, Environment and Natural Resources Division, and should refer to United States v. Infineum USA LP, D.J. Ref. No. 90-5-2-1-11191. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, D.C. 20044-7611.

During the public comment period, the proposed Consent Decree may be examined and downloaded at this Justice Department website: https://www.justice.gov/enrd/consent-decrees. We will provide a paper copy of the proposed Stipulation upon written request and payment of reproduction costs. Please mail your request and payment to: Consent Decree Library, U.S. DOJ—ENRD, P.O. Box 7611, Washington, DC 20044-7611.

Please enclose a check or money order for $9.50 (25 cents per page reproduction cost), payable to the United States Treasury.

Robert Maher,
Assistant Section Chief, Environmental Enforcement Section, Environment & Natural Resources Division.

[FR Doc. 2019-10361 Filed 5-17-19; 8:45 am]

BILLING CODE 4410-15-P